DEPARTMENT OF LABOR

Employment and Training Administration

[TA-W-59,367]

Forney Corporation, a Division of United Technologies Corp., Carrollton, TX; Notice of Termination of Investigation

Pursuant to Section 221 of the Trade Act of 1974, an investigation was initiated on May 10, 2006 in response to a petition filed by a company official on behalf of workers at Forney Corporation, A Division of United Technologies Corporation, Carrollton, Texas.

The petitioner has requested that the petition be withdrawn. Consequently, the investigation has been terminated.

Signed in Washington, DC, this 18th day of May 2006.
Elliott S. Kushner,
Certifying Officer, Division of Trade Adjustment Assistance.

[FR Doc. E6-8771 Filed 6-6-06; 8:45 am]

BILLING CODE 4510-30-P